DEPARTMENT OF TRANSPORTATION

Pipeline and Hazardous Materials Safety Administration

Notice of Actions on Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations, notice is hereby given of the actions on special permits applications in (December to January 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on February 18, 2014.
Donald Burger,
Chief, Special Permits and Approvals Branch.

S.P No. | Applicant | Regulation(s) | Nature of special permit thereof
MODIFICATION SPECIAL PERMIT GRANTED
15552-M | Poly-Coat Systems, Inc., Liverpool, TX 173.243 | 49 CFR 173.240, 173.241, 173.242, 173.243, and 173.244 | To modify the special permit to more accurately reflect the intent of the relief concerning “corrosion barriers” and re-barreling.
11827-M | Moses Lake Industries, Inc. Moses Lake, WA | 49 CFR 180.605(c)(1) and 180.352(b)(3) | To modify the special and permit to authorize a dual hazard material.
14770-M | Nova Chemicals Inc. Moon Township, PA | 49 CFR 173.242 | To modify the special permit to reference Silvan Industries portable tank drawings in paragraph 7.a. of the special permit.
14188-M | IDQ Operating Inc. Garland, TX | 49 CFR 173.304(d), 173.306(a)(3) and 178.33a | To modify the special permit to reflect current statutes and regulations pertaining to consumer commodities.
NEW SPECIAL PERMIT GRANTED
15747-N | UPS, Inc. Atlanta, GA | 49 CFR 177.817(a); 177.817(e); 177.802; 172.203(a); 172.602(b) | Effective March 1, 2014, this special permit authorizes the transportation in commerce of certain hazardous materials using electronic records including transmission via email, fax, or telephone in lieu of physical shipping papers. (mode 1)
15861-N | Petro2Go, LLC. De Pere, WI | 49 CFR 177.834(h) and 178.700(c)(1) | To authorize the manufacture, mark and sale of non-bulk refueling tanks as intermediate bulk containers which are authorized to be unloaded from the motor vehicle when transporting various Class 3 hazardous materials. (mode 1)
15872-N | KMG Electronic Chemicals Pueblo, CO | 49 CFR 173.158(f)(1) | To authorize the transportation in commerce of 69.5% Nitric acid in non-DOT specification one-time use HDPE plastic drums. (mode 1)
15889-N | E.I. DuPont de Nemours & Company, Inc. WILMINGTON, DE | 49 CFR 173.32(e) | To authorize the one-time transportation in commerce of a portable tank that was filled past its required periodic reinspection date. (mode 1)
15964-N | ICL Performance Products LP St. Louis, MO | 49 CFR 180.605 | To authorize the one-time transportation in commerce of an ISO tank without the required hydrostatic pressure being performed after repair. (mode 1)
15994-N | Pinnacle Helicopter Lubbock, TX | 49 CFR 175.9 | To authorize the transportation in commerce of hazardous materials in external load. (mode 4)
15986-N | Helicopter Consultants of Maui, Inc. dba Blue Hawaiian Helicopters Kahului, HI | 49 CFR 172.101 Column (9B), 172.204(c)(3), 173.27(b)(2), 175.30(a)(1), 172.200, 172.300 and 172.400 | To authorize the transportation in commerce of certain hazardous materials by external load in remote areas of the US without being subject to hazard communication requirements and quantity limitations where no other means of transportation is available. (modes 2, 4)
16033-N | Aerojet Corporation Camden, AR | 49 CFR 172.200 | To authorize the transportation in commerce of certain hazardous materials across a public road within a facility without shipping papers. (mode 1)
EMERGENCY SPECIAL PERMIT GRANTED
16049-N | Walt Disney Parks & Resorts U.S., Inc. Anaheim, CA | 49 CFR 173.56(b) and 172.320 | To authorize the one-way transportation in commerce of certain unapproved fireworks from two Walt Disney World Park Resorts U.S., Inc. storage facilities to Clean Harbors destruction facilities by motor vehicle for destruction. (mode 1)
16064-N | Airgas USA, LLC Cheyenne, WY | 49 CFR 173.3(e) | To authorize the transportation in commerce of a DOT Specification 4AA cylinder containing anhydrous ammonia that developed a leak and is equipped with a Chlorine Institute Kit “A” to prevent leakage during transportation. (mode 1)
16057-N | PCC Logistics Carson, CA | 49 CFR 173.56(b) | To authorize the one-time, one-way transportation in commerce of certain unapproved fireworks from Carson, CA to Wilmington CA when classed as Division 1.4G. (mode 1)
16042-N | New England Primate Research Center | 49 CFR 173.199(a)(1) | To authorize the one-time one-way transportation in commerce of lice, non-human primates (NHPs) infected with Division 6.2 (infectious substance) materials. (mode 1)
DENIED
14920-M | Request by Nordco Rail Services & Inspection Technologies Ridgefield, CT January 08, 2014. To modify the special permit to authorize 3A, 3AL, and DOT-SP 12440 cylinders to be retested by a 100% ultrasonic examination, marking requirements equal to or less than 5 inches, different dimensions of a flat bottom hole to be used during ultrasonic examinations, and add an acceptable level of tolerance to the maximum achieved reference amplitude.
15634-M | Request by SodaStream USA Mount Laurel, NJ December 11, 2013. To modify the special permit to authorize the transportation of cylinders by motor vehicle consistent with the limited quanitiy exception.
15892-N | Request by Department of Energy Washington, DC January 07, 2014. To authorize the transportation in commerce of certain radiation detectors containing methane, which are constructed of aluminum and stainless steel.
15899-N | Request by HRD Aero Systems, Inc. Valencia, CA December 20, 2013. To authorize the manufacture, mark and sell of non-DOT specification cylinder for the transportation in commerce of a Division 2.2 gas.
15967-N | Request by Chart Industries New Prague, MN January 22, 2014. To authorize the manufacture, mark and sale of non-DOT specification tanks cars similar to DOT113C120W for the transportation in commerce of certain refrigerated liquids.
16041-N | Request by JCR Construction Company, Inc. Raymond, NH December 10, 2013.
16045-N | Request by G.L.I. Ets Citergaz Civray, France, FR January 31, 2014. To authorize the manufacture, marking, sale and use of a non-DOT specification stainless steel cylinder similar to a DOT specification 4BW cylinder.
15720-N | Digital Wave Corporation Centennial, CO | 49 CFR 180.205(g) | To extend the service life of certain permitted cylinders by certifying them by an alternative retest.

[FR Doc. 2014-04284 Filed 3-3-14; 8:45 am]

BILLING CODE 4909-60-M